DEPARTMENT OF THE INTERIOR

National Park Service

Notice of Availability of the Wilderness Study, Draft Environmental Impact Statement, Apostle Islands National Lakeshore, Wisconsin

AGENCY: National Park Service, Interior.

ACTION: Notice of availability.

SUMMARY: Pursuant to section 102(2) of the National Environmental Policy Act (NEPA) of 1969, the National Park Service (NPS) announces the availability of the draft wilderness study/environmental impact statement (EIS) for Apostle Islands National Lakeshore, Wisconsin. This notice is being furnished as required by NEPA Act Regulations 40 CFR 1501.7.

DATES: There will be a 90-day public review period for comments on this document. Comments on the draft wilderness study/EIS must be received no later than 90 days after the Environmental Protection Agency publishes its notice of availability in the Federal Register. As required under section 3(d) (1) of the Wilderness Act, a public hearing will be held on the draft wilderness study on August 27, from 2-4:30 p.m. and from 6-8 p.m. at the Northern Great Lakes Visitor Center. The center is located on County Road G, one-half mile west of the junction of U.S. 2 and State Highway 13, west of Ashland, Wisconsin. In addition, public open houses for information about, or to make comment on, the draft wilderness study/EIS will be held in the region during the comment period. These open houses will be announced in the local media and on the park Web site when they are scheduled. Information about meeting times and places will be available by contacting the park's headquarters at 715-779-3398, extension 102, or visiting the park's Web site at http://www.nps.gov/apis/wstudy.htm.

ADDRESSES: Copies of the draft wilderness study/EIS are available by request by writing to Mr. Jim Nepstad, Wilderness Study Coordinator, Apostle Islands National Lakeshore, Route 1, Box 4, Bayfield, Wisconsin 54814, by phone 715-779-3398, extension 102, or by e-mail message at apis_comments@nps.gov. The document can be picked-up in person at the park's headquarters at 415 Washington Avenue, Bayfield, Wisconsin.

FOR FURTHER INFORMATION CONTACT: Mr. Jim Nepstad, Wilderness Study Coordinator, Apostle Islands National Lakeshore, Route 1, Box 4, Bayfield, Wisconsin 54814, or by calling 715-779-3198, extension 102.

SUPPLEMENTARY INFORMATION: The Wilderness Act and the NPS management policies require all lands administered by the NPS be evaluated for their suitability for inclusion within the national wilderness preservation system. The purpose of this wilderness study is to determine if and where lands and waters within the Apostle Islands National Lakeshore should be proposed for wilderness designation. The study identifies four possible wilderness configurations within the park, including a no wilderness alternative, and evaluates their effects. Based on the findings of this study, a formal wilderness proposal may be submitted to the Director of the NPS for approval and subsequent consideration by the Department of the Interior, the President, and Congress under the provisions of the Wilderness Act.

Persons wishing to comment may do so by any one of several methods. They may attend the public hearing or open houses noted above. They may mail comments to Mr. Jim Nepstad, Wilderness Study Coordinator, Apostle Islands National Lakeshore, Route 1, Box 4, Bayfield, Wisconsin 54814. They also may comment via e-mail to apis_comments@nps.gov (please include name and return address in the e-mail message). Finally, they may hand-deliver comments to the Apostle Islands National Lakeshore headquarters at 415 Washington Avenue, Bayfield, Wisconsin.

It is the practice of the NPS to make comments, including names and home addresses of respondents, available for public review during regular business hours. Individual respondents may request we withhold their home address from the record, which we will honor to the extent allowable by law. There also may be circumstances in which we would withhold from the record a respondent's identify, as allowable by law. If you wish us to withhold your name and/or address, you must state this prominently at the beginning of your comment. However, we will not consider anonymous comments. We will make all submissions from organizations or businesses, and from individuals identifying themselves as representatives or officials of organizations or businesses available for public inspection in their entirety.

The responsible official is Mr. Ernest Quintana, Acting Midwest Regional Director, NPS.

Dated: June 6, 2003.
David N. Given,
Acting Regional Director, Midwest Region.

[FR Doc. 03-17549 Filed 7-10-03; 8:45 am]

BILLING CODE 4310-97-P